FEDERAL HOUSING FINANCE BOARD

Sunshine Act Meeting

Federal Register Citation of Previous Announcement: 67 FR 22084, May 2, 2002.

Previously Announced Time and Date of the Meeting: 10:00 A.M., Wednesday, May 8, 2002.

Change of Meeting Time: Notice is hereby given that the Board of Directors meeting scheduled for 10 a.m. on Wednesday, May 8, 2002 has been changed to 2 p.m. on Wednesday, May 8, 2002.

CONTACT PERSON FOR MORE INFORMATION: Elaine L. Baker, Secretary to the Board, (202) 408-2837.

James L. Bothwell,
Managing Director.

[FR Doc. 02-11548 Filed 5-3-02; 5:08 pm]

BILLING CODE 6725-01-P